FEDERAL COMMUNICATIONS COMMISSION

[MD Docket No. 20-270; FR ID 61142]

Schedule of Application Fees of the Commission's Rules

AGENCY: Federal Communications Commission.

ACTION: Notice.

SUMMARY: The Commission announces the effective date of new application fee rates for the Enforcement Bureau, Wireline Competition Bureau, and the International Bureau.

DATES: New application fee rates will be updated on December 15, 2021.

FOR FURTHER INFORMATION CONTACT: Roland Helvajian, Office of Managing Director at (202) 418-0444.

SUPPLEMENTARY INFORMATION: The Commission adopted new application fee rates in a Report and Order, FCC 20-184, MD Docket No. 20-270, adopted on December 23, 2020, released on December 29, 2020, and published in the Federal Register on March 19, 2021 (86 FR 15026, March 19, 2021). This document provides notice that new application fee rates will become effective on December 15, 2021 for the Enforcement Bureau, Wireline Competition Bureau, and the International Bureau.

DA 21-1496

Released: December 15, 2021

Effective Date of New Application Fees for the Enforcement Bureau, Wireline Competition Bureau, and the International Bureau

MD Docket No. 20-270

On December 23, 2020, the Commission adopted a Report and Order implementing a new application fee schedule which significantly updated the Commission's previous fee schedule.¹ As indicated in the 2020 Application Fee Report and Order, the new application fee rates will become effective when the Commission's “information technology systems and internal procedures have been updated, and the Commission publishes notice(s) in the Federal Register announcing the effective date of such rules.” ² On July 6, 2021, the Commission announced that the systems and internal procedures had been updated for the Office of Engineering and Technology and for the Media Bureau, and as a result new application fees became effective for those Bureaus as of July 15, 2021.³ This Public Notice announces that new application fee rates for the Wireline Competition Bureau (47 CFR 1.1105), the Enforcement Bureau (47 CFR 1.1106), International Bureau (47 CFR 1.1107), and CALEA Petitions (47 CFR 1.1109) will become effective on December 15, 2021.⁴ Application fees for Enforcement Bureau applications and CALEA Petitions can be paid through the Commission's Registration System (CORES) (the Commission's FRN Management and Financial system),⁵ International Bureau applications can be paid through IBFS (or through the CORES system as a back-up), and Wireline Competition applications can be paid through ETFS (tariff filings), and the CORES system (section 214 and VoIP numbering applications).

¹ See Amendment of the Schedule of Application Fees Set Forth in Sections 1.1102 through 1.1109 of the Commission's Rules, MD Docket No, 20-270, Report and Order, 35 FCC Rcd 15089 (2020) (2020 Application Fee Report and Order). Pursuant to section 8(b)(1) of the Communications Act of 1934, as amended, the Commission is required to review application fees in every even-numbered year, adjust the fees to reflect increases or decreases in the Consumer Price Index, and round to the nearest $5 increment. See 47 U.S.C. 158(b)(1).

² 2020 Application Fee Report and Order at 15155, para. 201.

³ Effective Date of New Application Fees for the Office of Engineering and Technology and the Media Bureau, MD Docket No. 20-270, Public Notice, DA 21-747 (OMD 2021).

⁴ See 47 CFR 1.1105 (Schedule of charges for applications and other filings for wireline competition services), 47 CFR 1.1106 (Schedule of charges for applications and other filings for Enforcement Bureau services), 47 CFR 1.1107 (Schedule of charges for applications and other filings for International Bureau services), and 47 CFR 1.1109 (Schedule of charges and filings for the Public Safety and Homeland Security Bureau). Applicants must continue to pay the current fees for their applications under the existing procedures until the new procedures and fees are in effect for their applications. The Commission will announce the effective date of the new application fee rates in 47 CFR 1.1102 of the Commission's rules once the applicable information technology systems and internal procedures have been updated for those fees. See 47 CFR 1.1102.

⁵ Applicants can login at https://apps.fcc.gov/cores/userLogin.do using an existing FCC Username account, or through CORES' FRN access page at https://apps.fcc.gov/cores/paymentFrnLogin.do. On December 15, 2021, the URL that directly logs into Fee Filer will be discontinued, but will re-direct users to the new payment system (see FCC Announces Decommissioning of Fee Filer as Method of Payment and Replacement with New Payment Module within CORES and Decommissioning of the Commission's Red Light Display System and Replacement with a New Module within CORES, Public Notice, December 1, 2021).

For further information regarding this document, please contact Roland Helvajian, Program Analyst, Financial Operations, Office of the Managing Director, Roland.Helvajian@fcc.gov.

Marlene Dortch,
Secretary.

[FR Doc. 2021-26613 Filed 12-8-21; 8:45 am]

BILLING CODE 6712-01-P